DEPARTMENT OF LABOR

Employment and Training Administration

[TA-W-58,756]

Wagner Knitting, Inc., Including On-Site Leased Workers of ADP Total Source III, Inc., Lowell, NC; Amended Certification Regarding Eligibility to Apply for Worker Adjustment Assistance and Alternative Trade Adjustment Assistance

In accordance with Section 223 of the Trade Act of 1974 (19 U.S.C. 2273), and section 246 of the Trade Act of 1974 (26 U.S.C. 2813), as amended, the Department of Labor issued a Certification of Eligibility to Apply for Worker Adjustment Assistance and Alternative Trade Adjustment Assistance on April 28, 2006, applicable to workers of Wagner Knitting, Inc., Lowell, North Carolina. The notice was published in the Federal Register on May 11, 2006 (71 FR 27519).

At the request of a company official, the Department reviewed the certification for workers of the subject firm. The workers are engaged in the production of circular knit fabrics.

New information shows that leased workers of ADP Total Source III, Inc. were employed on-site at the Lowell, North Carolina location of Wagner Knitting, Inc.

Based on these findings, the Department is amending this certification to include leased workers of ADP Total Source III, Inc. working on-site at Wagner Knitting, Inc., Lowell, North Carolina.

The intent of the Department's certification is to include all workers employed at Wagner Knitting, Inc., Lowell, North Carolina who was adversely affected by increased customer imports.

The amended notice applicable to TA-W-58,756 is hereby issued as follows:

All workers of Wagner Knitting, Inc., including on-site leased workers of ADP Total Source III, Inc., Lowell, North Carolina, who became totally or partially separated from employment on or after January 30, 2005, through April 28, 2008, are eligible to apply for adjustment assistance under section 223 of the Trade Act of 1974, and are also eligible to apply for alternative trade adjustment assistance under Section 246 of the Trade Act of 1974.

Signed at Washington, DC, this 19th day of May 2006.
Richard Church,
Certifying Officer, Division of Trade Adjustment Assistance.

[FR Doc. E6-8776 Filed 6-6-06; 8:45 am]

BILLING CODE 4510-30-P